DEPARTMENT OF TRANSPORTATION

Federal Railroad Administration

Petition for Waiver of Compliance

In accordance with Part 211 of Title 49 Code of Federal Regulations (CFR), notice is hereby given that the Federal Railroad Administration (FRA) has received a request for temporary waiver of compliance with certain requirements of its safety standards. The individual petition is described below, including the party seeking relief, the regulatory provisions involved, and the nature of the relief being requested.

Northeast Illinois Regional Commuter Railroad Corporation

[Docket Number FRA-2008-0057]

The Northeast Illinois Regional Commuter Railroad Corporation (Metra) has submitted a temporary waiver petition to support field testing of its processor-based train control system, identified as Electronic Train Management System (ETMS), pursuant to 49 CFR Sections 211.7 and 211.51.

An informational filing, as required under 49 CFR Part 236, Subpart H, has also been prepared and submitted in conjunction with this waiver petition, and can be found in the same docket as this waiver petition (FRA-2008-0057).

ETMS is a locomotive-centric, non-vital system, designed to be overlaid on existing methods of operation and to provide an improved level of railroad safety through enforcement of a train's authority limits and both permanent and temporary speed restrictions. Metra desires to commence field testing on or about July 1, 2008, or as soon as practicable thereafter, contingent upon FRA's acceptance and approval of the associated informational filing and this waiver petition. Metra intends to test and develop ETMS on its Rock Island District between Chicago, IL, and Joliet, IL.

Metra is seeking regulatory relief for development testing and demonstration purposes only. Specifically, Metra is requesting regulatory relief from the following FRA requirements:

• 49 CFR 216.13 (Special Notice for Repairs—Locomotive);

• 49 CFR 217.9 (Program of Operational Tests and Inspections—Recordkeeping);

• 49 CFR 217.11 (Program of Instruction on Operating Rules—Recordkeeping, Electronic Recordkeeping);

• 49 CFR Part 218, Subpart D (Prohibition against Tampering with Safety Devices);

• 49 CFR 229.7 (Prohibited Acts);

• 49 CFR 229.135 (Event Recorders);

• 49 CFR 233.9 (Reports);

• 49 CFR 235.5 (Changes Requiring Filing of Application);

• 49 CFR 240.127 (Criteria for Examining Skill Performance); and

• 49 CFR 240.129 (Criteria for Monitoring Operational Performance of Certified Engineers).

Interested parties are invited to participate in these proceedings by submitting written views, data, or comments. All communications concerning these proceedings should identify the appropriate docket number (Docket Number FRA-2008-0057) and may be submitted by one of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

FRA does not anticipate scheduling a public hearing in connection with these proceedings since the facts do not appear to warrant a hearing. If any interested party desires an opportunity for oral comment, they should notify FRA, in writing, before the end of the comment period and specify the basis for their request.

Communications received within 30 days of the date of this notice will be considered by FRA before final action being taken. Comments received after this period will be considered as far as practicable. All written communications concerning these proceedings are available for examination during regular business hours (9 a.m.-5 p.m.) at the DOT Docket Management Facility, 1200 New Jersey Avenue, SE., Room W12-140, in Washington, DC. All documents in the public docket are also available for inspection and copying on the internet at http://www.regulations.gov.

Anyone is able to search the electronic form of any written communications and comments received into any of our dockets by name of the individual submitting the comment (or signing the comment, if submitted on behalf of an association, business, labor union, etc.). You may review the DOT's complete Privacy Act Statement in the Federal Register published on April 11, 2000 (Volume 65, Number 70; Pages 19477-78).

Issued in Washington, DC on May 30, 2008.
Grady C. Cothen, Jr.,
Deputy Associate Administrator for Safety Standards and Program Development.

[FR Doc. E8-12544 Filed 6-4-08; 8:45 am]

BILLING CODE 4910-06-P